NATIONAL AERONAUTICS AND SPACE ADMINISTRATION

[Notice: (16-073)]

NASA Advisory Council; Institutional Committee; Meeting

AGENCY: National Aeronautics and Space Administration.

ACTION: Notice of Meeting.

SUMMARY: In accordance with the Federal Advisory Committee Act (Pub. L. 92-463), the National Aeronautics and Space Administration announces a meeting of the Institutional Committee of the NASA Advisory Council (NAC). This committee reports to the NAC.

DATES: Wednesday, November 2, 2016, 9:00 a.m.—5:00 p.m.; Thursday, November 3, 2016, 8:30 a.m.-5:00 p.m.; and Friday, November 4, 2016, 8:30 a.m.-12:00 noon, Local Time.

ADDRESSES: NASA Headquarters, Glennan Conference Room 1Q39, 300 E Street SW., Washington, DC 20546.

FOR FURTHER INFORMATION CONTACT: Mr. Todd Mullins, NAC Institutional Committee Executive Secretary, NASA Headquarters, Washington, DC 20546; phone: (202) 358-3831; email: todd.mullins@nasa.gov.

SUPPLEMENTARY INFORMATION: The meeting will be open to the public up to the seating capacity of the room. This meeting is also available telephonically and by WebEx. You must use a touch-tone phone to participate in this meeting. Any interested person may dial the toll free access number (844) 467-6272 or toll access number (720) 259-6462, and then the numeric participant passcode: 180093 followed by the # sign. To join via WebEx on November 2, the web link is https://nasa.webex.com/, the meeting number is 995 643 981 and the password is Meeting2016! (Password is case sensitive.) To join via WebEx on November 3, the link is https://nasa.webex.com/, the meeting number is 992 722 198 and the password is Meeting2016! To join via WebEx on November 4, the link is https://nasa.webex.com/, the meeting number is 992 605 812 and the password is Meeting2016! (Password is case sensitive.) NOTE: If dialing in, please “mute” your telephone. The agenda for the meeting includes the following topics:

• Business Systems Assessment (BSA) Status

• BSA Human Capital Implementation Plan

• BSA Procurement Implementation Plan

• BSA Facilities Deep Dive

• NAC Institutional Committee Work Plan

Attendees will be requested to sign a register and to comply with NASA Headquarters security requirements, including the presentation of a valid picture ID before receiving access to NASA Headquarters. Due to the Real ID Act, Public Law 109-13, any attendees with driver's licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Minnesota, Missouri, and Washington. Foreign nationals attending this meeting will be required to provide a copy of their passport and visa in addition to providing the following information no less than 10 working days prior to the meeting: Full name; gender; date/place of birth; citizenship; passport information (number, country, telephone); visa information (number, type, expiration date); employer/affiliation information (name of institution, address, country, telephone); title/position of attendee. To expedite admittance, attendees with U.S. citizenship and Permanent Residents (green card holders) can provide full name and citizenship status no less than 3 working days prior to the meeting by contacting Ms. Mary Dunn, via email at mdunn@nasa.gov or by telephone at (202) 358-2789. It is imperative that the meeting be held on this date to accommodate the scheduling priorities of the key participants.

Patricia D. Rausch,
Advisory Committee Management Officer, National Aeronautics and Space Administration.

[FR Doc. 2016-24229 Filed 10-5-16; 8:45 am]

BILLING CODE 7510-13-P